OFFICE OF SCIENCE AND TECHNOLOGY POLICY

National Science and Technology Council, Committee on Technology; 2011 National Nanotechnology Initiative Environmental, Health, and Safety Strategy Webinar

ACTION: Notice of webinar.

SUMMARY: The National Nanotechnology Coordination Office (NNCO), on behalf of the Nanoscale Science, Engineering, and Technology (NSET) Subcommittee of the Committee on Technology, National Science and Technology Council (NSTC), will hold a webinar on Thursday, October 20, 2011, to provide an open forum to answer questions related to the 2011 Federal government's strategy for research on environmental, health, and safety aspects of nanomaterials. Nanomaterial Measurement Infrastructure, Human Exposure Assessment, Human Health, the Environment, Risk Assessment and Risk Management Methods, and Informatics and Modeling are the six environmental, health, and safety research categories identified in the 2011 NSET Subcommittee document NNI Environmental, Health, and Safety Research Strategy (http://www.nano.gov).

DATES: The webinar will be held on Thursday, October 20, 2011 from 12 p.m. until 12:45 p.m.

ADDRESSES: For information about the webinar, please see http://www.nano.gov.

Submitting Questions: Questions may be submitted beforehand to webinar@nnco.nano.gov beginning at noon (EDT) Wednesday, October 19, 2011 and will be accepted until the close of the webinar at 12:45 p.m. Thursday, October 20, 2011. Questions submitted to webinar@nnco.nano.gov will be considered in the order received during the 20 minute question-and-answer segment of the webinar. The moderator reserves the right to group similar questions and to skip questions that are either repetitive or not germane to the topic. Due to time constraints, not all questions may be answered.

Information about the webinar is posted at http://www.nano.gov.

The webinar will feature brief comments by NNI agency representatives and by outside experts, followed by approximately 20 minutes to answer audience questions.

FOR FURTHER INFORMATION CONTACT: For information regarding this Notice, please contact Liesl Heeter, telephone (703) 292-4533, or Marlowe Epstein, telephone (703) 292-7128, National Nanotechnology Coordination Office. E-mail: webinar@nnco.nano.gov.

Ted Wackler,
Deputy Chief of Staff.

[FR Doc. 2011-26048 Filed 10-6-11; 8:45 am]

BILLING CODE P